DEPARTMENT OF STATE

[Public Notice 3317]

Civic Education Curriculum Development and Teacher Training Program for Romania

NOTICE: Request for Proposals.

SUMMARY: The Humphrey Fellowships and Institutional Linkages Branch of the Office of Global Educational Programs of the Bureau of Educational and Cultural Affairs announces an open competition for the Civic Education Curriculum Development and Teacher Training Project for Romania. Public and private non-profit organizations meeting the provisions described in IRS regulation 26 CFR 1.501c may submit proposals to cooperate with the Bureau in the administration of a two-year project to support the development and implementation of new curriculum units for an eleventh grade civic education and comparative government course in Romania. The grant will award up to $194,000 to facilitate the project. The U.S. organization will work in coordination with the Ministry of Education and its appointees in Romania; the public affairs section of the U.S. Embassy in Bucharest; and an advisory group of Romanian civic educators. The program will comprise two phases of activity: (1) Selection of an eight-member curriculum development team of Romanian educators and preliminary consultations in Bucharest; (2) an eight- to ten-week U.S.-based curriculum development workshop in which the team will produce draft curriculum units and a teacher's manual for an eleventh-grade comparative government course.

In addition to the activity described in this solicitation, additional program activities may be undertaken during a third phase. Contingent upon successful completion of Phases I and II, the grantee may be invited to continue program activities with additional funding that may be provided by the Bureau. These activities would include follow-up consultations in Romania to assist in the further development, review, and field-testing of the draft curricular materials and in the training of a larger group of Romanian practitioners in their utilization.

The Bureau solicits detailed proposals from U.S. educational institutions and public and private non-profit organizations to develop and administer this project. Grantee organizations will consult regularly with the Bureau and with the public affairs section at the U.S. Embassy in Bucharest with regard to participant selection, program implementation, direction, and assessment. Proposals should demonstrate an understanding of the issues confronting education in Romania as well as expertise in civic education, political science, and curriculum development. The Bureau encourages applicants who can draw on the contributions of political scientists to civic education and comparative government curricula in the United States while adapting this experience to address Romanian educational needs.

The funding authority for the program cited above is provided through the Support for East European Democracy (SEED) Act. Programs and projects must conform with Bureau requirements and guidelines outlined in the Solicitation Package. The programs and projects of the Bureau of Educational and Cultural Affairs are subject to availability of funds.

Program Information

Overview: The goals of the project are to assist a team of Romanian educators to develop up-to-date curriculum units for a course in civic education and comparative government to be taught at the eleventh grade level, and to assist in training teachers to use these units in Romanian classrooms. The rationale for this project is that improving citizenship education at the high school level will better prepare Romanian students to participate actively in building a pluralistic, democratic society and will promote democratic relations among members of the school community, including students, teachers, school administrators, and parents while training teachers to assist in supporting these relationships. Applicants may suggest topics to be developed by the curriculum team; however, final determination of appropriate topics will be made by the curriculum development team in cooperation with the grantee organization and an advisory group of local curriculum development specialists in Romania during the first phase of the project.

Guidelines

Program Planning and Implementation

Grants should begin on or around September 1, 2000, with Phase I of the project, in which a curriculum development team of eight practitioners (e.g., classroom teachers and curriculum specialists) will be chosen by a selection committee in Romania comprised of local civic education specialists, representatives of the U.S. grantee organization, and the public affairs section of the U.S. Embassy in Bucharest. A Ministry of Education official will be invited to provide liaison between the U.S. project director(s) and the Romanian government. In Phase I, the team will undertake preliminary work in Romania over a period of 3-6 months. Members of the curriculum development team, in consultation with specialists from the grantee organization and local Romanian civic education and political science specialists, will familiarize themselves with civic education curricula and teaching materials used in Romania, with materials used in the U.S. and with the needs of students in Romania, in order to select the topics to be covered in the curriculum units that will be drafted.

In Phase II, members of the curriculum development team will spend approximately eight to ten weeks in a highly structured U.S.-based workshop to be sponsored and organized by the U.S. grantee organization, and will attend focused curriculum seminars; observe relevant aspects of the U.S. educational system; and begin drafting teacher and student materials for the curriculum units in consultation with U.S. specialists. The grantee organization will be responsible for introducing the Romanian team to leading U.S. political science practitioners and civic educators with expertise that is pertinent to the topics to be explored, and to a broad range of relevant resources. The team should be familiarized with methods for effectively utilizing civic education and political science resources from various levels in a classroom setting. The workshop schedule should incorporate significant time for both individual and group work on drafting materials as well as intensive training on specific approaches to the teaching, development, and revision of civic education and comparative government topics. In addition, the workshop should include field experiences which are relevant to the materials being produced (such as visits to schools, matching the Romanian educators with U.S. teachers, and mentored attendance at professional association meetings). The grantee organization will cooperate with the curriculum development team, Romanian educators, and the Ministry of Education in Romania to design a pilot-test program for selected schools in Romania.

Possible future activities include work by the curriculum development team in centers throughout Romania with teacher trainers, local civic education specialists, political science specialists from Romanian universities, U.S. specialists from the grantee organization, and other Romanian specialists to provide introductory training for a larger group of practitioners in methods for testing and utilizing the draft curriculum units in civic education/comparative government classrooms. Revision of the draft curricular materials based on the results of field testing may be completed by the grantee organization and the Romanian curriculum development team during future phases of activity.

During these phases the Romanian Ministry of Education will provide the following assistance to the participants:

(1) Provide a contract for paid leave time for the curriculum development team during their stays in the U.S. and the subsequent in-service training work;

(2) Facilitate the logistics of in-service training sessions for teachers by providing appropriate space at regional teacher training centers (Casa Corpului Didactic).

Visa/Insurance/Tax Requirements

U.S. lecturers and consultants participating in the project must be U.S. citizens. Programs must comply with J-1 visa regulations. Please refer to Program Specific Guidelines POGI) in the Solicitation Package for further information. Administration of the program must be in compliance with reporting and withholding regulations for federal, state, and local taxes as applicable. Recipient organizations should demonstrate tax regulation adherence in the proposal narrative and budget.

Budget Guidelines

Grants awarded to eligible organizations with less than four years of experience in conducting international exchange programs will be limited to $60,000.

Applicants must submit a comprehensive budget for the entire program. Awards may not exceed $194,000. There must be a summary budget as well as breakdowns reflecting both administrative and program budgets. Applicants may provide separate sub-budgets for each program component, phase, location, or activity to provide clarification. The summary and detailed program and administrative budgets should be accompanied by a narrative which provides a brief rationale for each line item. The total administrative costs funded by the Bureau must be limited and reasonable.

Allowable costs for the program include the following:

(1) Administrative Costs, including salaries and benefits, of grantee organization.

(2) Program Costs, including general program costs and program costs for each Romanian participant in the U.S.-based curriculum development seminar.

Please refer to the Solicitation Package for complete budget guidelines and formatting instructions.

Announcement Title and Number

All correspondence with the Bureau concerning this RFP should reference the above title and number ECA/A/S/U-00-11.

FOR FURTHER INFORMATION, CONTACT: The Humphrey Fellowships and Institutional Linkages Branch, ECA/A/S/U, Room 349, U.S. Department of State, 301 4th Street, SW, Washington, DC 20547, telephone 202 619-5289 and fax 202 401-1433, or hiemstra@pd.state.gov to request a Solicitation Package. The Solicitation Package contains detailed award criteria, required application forms, specific budget instructions, and standard guidelines for proposal preparation. Please specify Bureau Program Officer Paul Hiemstra on all other inquiries and correspondence.

Please read the complete Federal Register announcement before sending inquiries or submitting proposals. Once the RFP deadline has passed, Bureau staff may not discuss this competition with applicants until the proposal review process has been completed.

To Download a Solicitation Package Via Internet

The entire Solicitation Package may be downloaded from the Bureau's website at http://exchanges.state.gov/education/rfps. Please read all information before downloading.

Deadline for Proposals

All proposal copies must be received at the Bureau of Educational and Cultural Affairs by 5 p.m. Washington, DC time on Friday, June 23, 2000. Faxed documents will not be accepted at any time. Documents postmarked the due date but received on a later date will not be accepted. Each applicant must ensure that the proposals are received by the above deadline.

Applicants must follow all instructions in the Solicitation Package. The original and 8 copies of the application should be sent to: U.S. Department of State, Bureau of Educational and Cultural Affairs, Ref.: ECA/A/S/U-00-11, Office of Grants Management, ECA/EX/PM, Room 336, 301 4th Street, SW, Washington, DC 20547.

Applicants must also submit the “Executive Summary” and “Proposal Narrative” sections of the proposal on a 3.5” diskette, formatted for DOS. These documents must be provided in ASCII text (DOS) format with a maximum line length of 65 characters. The Bureau will transmit these files electronically to the public affairs section at the U.S. Embassy in Bucharest for its review, with the goal of reducing the time it takes to get Embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy, ‘the Bureau’ shall take appropriate steps to provide opportunities for participation in such programs to human rights and democracy leaders of such countries.” Proposals should reflect advancement of this goal in their program contents, to the full extent deemed feasible.

Year 2000 Compliance Requirement (Y2K Requirement)

The Year 2000 (Y2K) issue is a broad operational and accounting problem that could potentially prohibit organizations from processing information in accordance with Federal management and program specific requirements including data exchange with the Bureau. The inability to process information in accordance with Federal requirements could result in grantees' being required to return funds that have not been accounted for properly.

The Bureau therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Review Process

The Bureau will acknowledge receipt of all proposals and will review them for technical eligibility. Proposals will be deemed ineligible if they do not fully adhere to the guidelines stated herein and in the Solicitation Package. All eligible proposals will be reviewed by the program office, as well as the U.S. Department of State Office of East European Assistance, where appropriate. Eligible proposals will be forwarded to panels of Bureau officers for advisory review. Proposals may also be reviewed by the Department of State, Office of the Legal Adviser or by other Bureau elements. Final funding decisions are at the discretion of the Department of State Under Secretary for Public Diplomacy and Public Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission, and responsiveness to the objectives and guidelines stated in this solicitation. Proposals should demonstrate substantive expertise in civic education, political science, and comparative government course development.

2. Creativity and feasibility of program plan: A detailed agenda and relevant work plan should demonstrate substantive undertakings, logistical capacity, and a creative utilization of resources and relevant professional development opportunities. The agenda and work plan should be consistent with the program overview and guidelines described in this solicitation.

3. Ability to achieve program objectives: Objectives should be reasonable, feasible, and flexible. Proposals should clearly demonstrate how the institution will meet the program's objectives and plan.

4. Broad significance and long-term impact: Proposed programs should strengthen long-term mutual understanding, including maximum sharing of information and establishment of long-term institutional and individual linkages. Project objectives should have significant but realistically anticipated on-going consequences for the participants and for their surrounding societies and communities as well as for the growth and encouragement of freedom and democracy, and cooperation.

5. Support of diversity: Proposals should demonstrate substantive support of the Bureau's policy on diversity. Achievable and relevant features should be cited in both program administration (selection of participants, program venue and program evaluation) and program content (orientation and wrap-up sessions, program meetings, resource materials and follow-up activities). The proposal should demonstrate an understanding of the specific diversity needs in Romania and strategies for addressing these needs as relevant to achieve program goals.

6. Institutional capacity and record: Proposed personnel and institutional resources should be adequate and appropriate to achieve the program or project's goals. Proposals should demonstrate an institutional record of successful exchange programs, including responsible fiscal management and full compliance with all reporting requirements for past Bureau grants as determined by the grants staff. The Bureau will consider the past performance of prior recipients and the demonstrated potential of new applicants.

7. Project evaluation: Proposals should include a plan to evaluate the project's success, both as the activities unfold and at the end of the program. A draft survey questionnaire or other technique plus description of a methodology to use to link outcomes to original project objectives are recommended. Successful applicants will be expected to submit intermediate program and financial reports after each project component is concluded or quarterly, whichever is less frequent.

8. Cost-effectiveness/Cost-sharing: The overhead and administrative components of the proposal, including salaries and honoraria, should be kept as low as possible. All other items should be necessary and appropriate and should reflect a commitment to pursuing project objectives. Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * *and thus to assist in the development of friendly, sympathetic and peaceful relations between the United States and the other countries of the world.” The funding authority for the program above is provided through the Support for East European Democracy (SEED) Act.

The terms and conditions published in this RFP are binding and may not be modified by any Bureau representative. Explanatory information provided by the Bureau that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Department of State procedures.

Dated: May 16, 2000.
Evelyn S. Lieberman,
Under Secretary for Public Diplomacy and Public Affairs, Department of State.

[FR Doc. 00-12939 Filed 5-24-00; 8:45 am]

BILLING CODE 4710-11-P